DEPARTMENT OF JUSTICE

Drug Enforcement Administration

[Docket No. DEA-392]

Importer of Controlled Substances Application: United States Pharmacopeial Convention

ACTION: Notice of application.

DATES: Registered bulk manufacturers of the affected basic classes, and applicants therefore, may file written comments on or objections to the issuance of the proposed registration on or before June 21, 2019. Such persons may also file a written request for a hearing on the application on or before June 21, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, dispensers, importers, and exporters of controlled substances (other than final orders in connection with suspension, denial, or revocation of registration) has been redelegated to the Assistant Administrator of the DEA Diversion Control Division (“Assistant Administrator”) pursuant to section 7 of 28 CFR part 0, appendix to subpart R.

In accordance with 21 CFR 1301.34(a), this is notice that on March 8, 2019, United States Pharmacopeial, 12601 Twinbrook Parkway, Rockville, Maryland 20852-1717 applied to be registered as an importer of the following basic classes of controlled substances:

Controlled substance | Drug code | Schedule
Methamphetamine | 1105 | II
Cathinone | 1235 | I
Phenmetrazine | 1631 | II
Methylphenidate | 1724 | II
Amobarbital | 2125 | II
Pentobarbital | 2270 | II
Secobarbital | 2315 | II
Glutethimide | 2550 | II
Methaqualone | 2565 | I
Lysergic acid diethylamide | 7315 | I
4-Methyl-2,5-dimethoxyamphetamine | 7395 | I
3,4-Methylenedioxyamphetamine | 7400 | I
4-Methoxyamphetamine | 7411 | I
Phencyclidine | 7471 | II
4-Anilino-N-phenethyl-4-piperidine (ANPP) | 8333 | II
Phenylacetone | 8501 | II
Alphaprodine | 9010 | II
Anileridine | 9020 | II
Cocaine | 9041 | II
Codeine-N-oxide | 9053 | I
Dihydrocodeine | 9120 | II
Difenoxin | 9168 | I
Diphenoxylate | 9170 | II
Heroin | 9200 | I
Levomethorphan | 9210 | II
Levorphanol | 9220 | II
Meperidine | 9230 | II
Dextropropoxyphene, bulk (non-dosage forms) | 9273 | II
Morphine-N-oxide | 9307 | I
Thebaine | 9333 | II
Norlevorphanol | 9634 | II
Oxymorphone | 9652 | II
Noroxymorphone | 9668 | II
Alfentanil | 9737 | II
Sufentanil | 9740 | II

The company plans to import the bulk control substances for distribution of analytical reference standards to its customers for analytical testing of raw materials.

Dated: May 7, 2019.
John J. Martin,
Assistant Administrator.

[FR Doc. 2019-10668 Filed 5-21-19; 8:45 am]

BILLING CODE 4410-09-P